JUDICIAL CONFERENCE OF THE UNITED STATES

Hearings of the Judicial Conference Advisory Committee on Rules of Bankruptcy Procedure; Federal Register; Citation of Previous Announcement: 77FR 49828

AGENCY: Judicial Conference of the United States, Advisory Committee on Rules of Bankruptcy Procedure.

ACTION: Notice of Cancellation of Open Hearing.

SUMMARY: The following public hearing on proposed amendments to the Federal Rules of Bankruptcy Procedure has been canceled: Bankruptcy Rules Hearing, January 18, 2013, Chicago, IL.

FOR FURTHER INFORMATION CONTACT: Benjamin J. Robinson, Deputy Rules Officer and Counsel, Administrative Office of the United States Courts, Washington, DC 20544, telephone (202) 502-1820.

Dated: December 20, 2012.
Benjamin J. Robinson,
Rules Committee Deputy and Counsel.

[FR Doc. 2012-31040 Filed 12-21-12; 4:15 pm]

BILLING CODE 2210-55-P